FEDERAL COMMUNICATIONS COMMISSION

Notice of Public Information Collection Being Reviewed by the Federal Communicatons Commission, Comments Requested

February 25, 2010.

SUMMARY: The Federal Communications Commission, as part of its continuing effort to reduce paperwork burden invites the general public and other Federal agencies to take this opportunity to comment on the following information collection(s), as required by the Paperwork Reduction Act of 1995, 44 U.S.C. 3501-3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Persons wishing to comments on this information collection should submit comments on or before May 3, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-1030.

Title: Service Rules for Advanced Wireless Services (AWS) in the 1.7 GHz and 2.1 GHz Bands.

Form No.: N/A.

Type of Review: Extension of a currently approved collection.

Respondents: Business or other for-profit, not-for-profit institutions, and state, local or tribal government.

Number of Respondents: 979 respondents; 1,630 responses.

Estimated Time Per Response: .25 - 5 hours.

Frequency of Response: Semi-annual and on occasion reporting requirements, recordkeeping requirement and third party disclosure requirement.

Obligation to Respond: Required to obtain or retain benefits. Statutory authority for this collection of information is contained in 47 U.S.C. sections 151, 154(i), 301, 302, 303(f), 303(g), 303(r), 307, 308, 309, 310, 316 and the Commercial Spectrum Enhancement Act (CSEA) of 2004, Pub. L. No. 108-494.

Total Annual Burden: 33,480 hours.

Total Annual Cost Burden: $581,800.

Privacy Act Impact Assessment: N/A.

Nature and Extent of Confidentiality: There is no need for confidentiality except as follows: The clearinghouses have committed, pursuant to the FCC's directive, to implement safeguards to maintain the confidentiality of information where necessary to protect respondents' legitimate commercial interests. Additionally, the Ninth Report and Order, 71 FR 29818 (May 24, 2006) protects the specific location of the Broadband Radio Service (BRS) licensees' end-user/subscriber equipment, customer names, addresses and contact for purpose of relocation, which could raise competitive concerns. The Commission's rules permit filing information with the Commission to request confidential treatment of their information under 47 CFR 0.459 of the Commission's rules.

Need and Uses: The Commission will submit this expiring information collection to the Office of Management and Budget (OMB) after this 60 day comment period in order to obtain the full three year clearance from them. The Commission has not changed the reporting, recordkeeping and/or third party disclosure requirements. The Commission is reporting a 4,333 hour increase in burden hours and a $2,139,400 decrease in annual costs. The change in burden hours and costs are due to a review of the Commission's initial burden estimates.

The public burden requirements will be used by incumbent licensees and new entrants to negotiate relocation agreements and to coordinate operations to avoid interference. The information will also be used by the clearinghouses to maintain a national database, determine reimbursement obligations of entrants pursuant to the Commission's rules and notify such entrants of their reimbursement obligations. Also, the information will be used to facilitate dispute resolution and for FCC oversight of the clearinghouses and the cost-sharing plan. Additionally, the requirements regarding foreign ownership, substantial service compliance, and interference coordination has been used in the past and will continue to be used to minimize interference, verify that the applicants are legally and technically qualified to hold licenses, and to determine compliance with Commission rules.

Federal Communications Commission.
Alethea Lewis,
Federal Register Liaison,
Office of the Secretary,
Office of Managing Director.

[FR Doc. 2010-4370 Filed 3-02-10 8:45 am]

BILLING CODE 6712-01-S